DEPARTMENT OF TRANSPORTATION

Federal Aviation Administration

14 CFR Part 73

[Docket No. FAA-2004-17774; Airspace Docket No. 04-ACE-32]

RIN 2120-AA66

Proposed Modification of Restricted Areas 3601A and 3601B; Brookville, KS

AGENCY: Federal Aviation Administration (FAA), DOT.

ACTION: Notice of proposed rulemaking.

SUMMARY: This action proposes to revise Restricted Areas 3601A (R-3601A) and 3601B (R-3601B), at Brookville, KS. Currently, R-3601 A and B are laterally adjacent to each other and have different ceilings. This action proposes to combine their lateral boundaries, divide the combined area vertically instead of laterally, and expand the vertical limits to flight level 230 (FL230). The lower portion of the combined area (surface to FL180) would be re-designated as R-3601A and the upper portion (FL180 to FL230) as R-3601B. Additionally, this action proposes to change the using agency from “Commander, Kansas ANG, McConnell AFB, KS” to “Air National Guard, 184th Air Refueling Wing, Detachment 1, Smoky Hill ANG Range, Salina, KS.” These modifications are proposed to fulfill new United States Air Force (USAF) requirements for high altitude release bomb training for fighter aircraft and medium-to-high altitude release bomb training for bombers.

DATES: Comments must be received on or before September 7, 2004.

ADDRESSES: Send comments on this proposal to the Docket Management System, U.S. Department of Transportation, Room Plaza 401, 400 Seventh Street, SW., Washington, DC 20590-0001. You must identify “FAA Docket No. FAA-2004-17774 and Airspace Docket No. 04-ACE-32,” at the beginning of your comments. You may also submit comments on the Internet at http://dms.dot.gov.

FOR FURTHER INFORMATION CONTACT: Steve Rohring, Airspace and Rules, Office of System Operations and Safety, ATO-R, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2004-17774 and Airspace Docket No. 04-ACE-32) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2004-17774 and Airspace Docket No. 04-ACE-32.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's webpage at http://www.gpo.access.gov/fr/index.html.

You may review the public docket containing the proposal, any comments received, and any final disposition in person at the Dockets Office (see ADDRESSES section for address and phone number) between 9 a.m. and 5 p.m., Monday through Friday, except Federal holidays. An informal docket may also be examined during normal business hours at the office of the Regional Air Traffic Division, Federal Aviation Administration, Central Region Headquarters, 901 Locust, Kansas City, MO 64106-2641.

Persons interested in being placed on a mailing list for future NPRM's should call the FAA's Office of Rulemaking, (202) 267-9677, for a copy of Advisory Circular No. 11-2A, Notice of Proposed Rulemaking Distribution System, which describes the application procedure.

History

On May 21, 2003, the USAF requested that the FAA take action to revise R-3601A and R-3601B. R-3601A and R-3601B are currently located adjacent to each other laterally and have different ceilings (FL180 and 6,500 feet above mean sea level (MSL), respectively). Specifically, the requested action would combine the current lateral boundaries of R-3601A and B, divide the combined area vertically instead of laterally, and expand the vertical limits to FL230. The lower portion of the combined area (surface to FL180) would be re-designated as R-3601A and the upper portion (FL180 to FL230) as R-3601B. The net result of the requested action would be to expand the vertical limits of the restricted area airspace from FL180 to FL230 over the area currently designated as R-3601A and from 6,500 feet MSL to FL230 over the area currently designated as R-3601B. The USAF indicated that the modifications are needed to fulfill new USAF requirements for high altitude release bomb training for fighter aircraft and medium-to-high altitude release bomb training for bombers. The current altitude structure is not sufficient to meet these new training requirements. Additionally, the USAF requested that the FAA take action to change the using agency of the modified R-3601A and R-3601B from “Commander, Kansas ANG, McConnell AFB, KS” to “Air National Guard, 184th Air Refueling Wing, Detachment 1, Smoky Hill ANG Range, Salina, KS.”

The Proposal

In response to a request from the USAF, the FAA is proposing an amendment to Title 14 Code of Federal Regulations (14 CFR) part 73 (part 73) to revise R-3601A and R-3601B. Specifically, this action proposes to modify R-3601A and R-3601B by combining their lateral boundaries, sub-dividing the combined area vertically (instead of laterally), and expanding the vertical limits to FL230. The lower portion of the combined area (surface to FL180) would be re-designated as R-3601A and the upper portion (FL180 to FL230) as R-3601B. Additionally, this action proposes to change the using agency of the modified R-3601A and R-3601B from “Commander, Kansas ANG, McConnell AFB, KS” to “Air National Guard, 184th Air Refueling Wing, Detachment 1, Smoky Hill ANG Range, Salina, KS.” The additional airspace is required to fulfill new USAF training requirements. Specifically, the new training requirements call for practicing the release of bombs from higher altitudes than are currently available within the existing restricted areas.

Section 73.36 of part 73 was republished in FAA Order 7400.8L, Special Use Airspace, dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subjected to an environmental analysis in accordance with FAA Order 1050.1E, Procedures for Handling Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.36 [Amended]

2. § 73.36 is amended as follows:

* * * * *

R-3601A Brookville, KS [Amended]

By removing the current boundaries, designated altitudes, and using agency and substituting the following:

Boundaries. Beginning at lat. 38°45′20″ N., long. 97°46′01″ W.; to lat. 38°39′45″ N., long. 97°46′01″ W.; then southwest along the Missouri Pacific Railroad Track; to lat. 38°38′20″ N., long. 97°47′31″ W.; to lat. 38°38′20″ N., long. 97°50′01″ W.; to lat. 38°35′00″ N., long. 97°50′01″ W.; to lat. 38°35′00″ N., long. 97°56′01″ W.; to lat. 38°45′20″ N., long. 97°56′01″ W.; to the point of beginning.

Designated altitudes. Surface to but not including FL180.

Using Agency. Air National Guard, 184th Air Refueling Wing, Detachment 1, Smoky Hill ANG Range, Salina, KS.

* * * * *

R-3601B Brookville, KS [Amended]

By removing the current boundaries, designated altitudes, and using agency and substituting the following:

Boundaries. Beginning at lat. 38°45′20″ N., long. 97°46′01″ W.; to lat. 38°39′45″ N., long. 97°46′01″ W.; then southwest along the Missouri Pacific Railroad Track; to lat. 38°38′20″ N., long. 97°47′31″ W.; to lat. 38°38′20″ N., long. 97°50′01″ W.; to lat. 38°35′00″ N., long. 97°50′01″ W.; to lat. 38°35′00″ N., long. 97°56′01″ W.; to lat. 38°45′20″ N., long. 97°56′01″ W.; to the point of beginning.

Designated altitudes. FL180 to FL230.

Using Agency. Air National Guard, 184th Air Refueling Wing, Detachment 1, Smoky Hill ANG Range, Salina, KS.

* * * * *

Issued in Washington, DC, July 12, 2004.
Reginald C. Matthews,
Manager, Airspace and Rules.

[FR Doc. 04-16521 Filed 7-20-04; 8:45 am]

BILLING CODE 4910-13-P